DEPARTMENT OF TRANSPORTATION

Federal Motor Carrier Safety Administration

49 CFR Parts 350, 385, 395, and 396

[DOT Docket No. FMCSA-2004-18940]

RIN 2126-AA89

Electronic On-Board Recorders (EOBRs) for Documenting Hours of Service; Listening Sessions

AGENCY: Federal Motor Carrier Safety Administration (FMCSA), DOT.

ACTION: Notice of public listening sessions.

SUMMARY: The Federal Motor Carrier Safety Administration (FMCSA) announces public listening sessions to obtain feedback from interested parties on the Agency's January 18, 2007, notice of proposed rulemaking (NPRM) to establish new performance standards for EOBRs, require the use of these devices by certain motor carriers, and to provide incentives for the voluntary use of such devices by the industry. The listening sessions will provide all interested parties with an opportunity to share their views on the Agency's EOBR rulemaking. All oral comments will be transcribed and placed in the public docket identified at the beginning of this notice.

DATES: The listening sessions will be held on March 27, 2007, from 9:30 a.m. to 4:30 p.m., and on April 2, 2007, from 9:30 a.m. to 4:30 p.m. Individuals who wish to make a formal presentation at either of the meetings should contact Ms. Deborah Freund at 202-366-4009 or e-mail her at deborah.freund@dot.gov no later than 5 p.m., e.t., on March 23, 2007, for the March 27 meeting, and no later than 5 p.m., e.t., on March 29th for the April 2 meeting to ensure that sufficient time is allotted for the presentation and to identify any audio-visual equipment needed for the presentation.

ADDRESSES: The March 27, 2007, meeting will be held at the Crowne Plaza West Hotel, 2532 West Peoria Avenue, Phoenix, Arizona 85029. The April 2, 2007, meeting will be held at the Harold Washington Library, 400 South State Street, Chicago, Illinois 60605-1203. You may also submit comments to the DOT Docket Management System (DMS), referencing Docket Number FMCSA-2004-18940, using any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 a.m. and 5 p.m., e.t., Monday through Friday, except Federal holidays.

• Federal eRulemaking Portal: Go to http://www.regulations.gov. Follow the online instructions for submitting comments.

Instructions: All submissions must include the Agency name and docket number or Regulatory Identification Number (RIN 2126-AA89) for this rulemaking. Note that all comments received will be posted without change to http://dms.dot.gov including any personal information provided. For additional information on submitting comments, see the Supplemental Information section of this document.

Docket: For access to the docket to read background documents or comments received, go to http://dms.dot.gov at any time or to Room PL-401 on the plaza level of the Nassif Building, 400 Seventh Street, SW., Washington, DC, between 9 a.m. and 5 p.m., e.t., Monday through Friday, except Federal holidays

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FOR FURTHER INFORMATION CONTACT: Ms Deborah M. Freund, Senior Transportation Specialist, Vehicle and Roadside Operations Division, FMCSA, (202) 366-4009, 400 Seventh Street, SW., Washington, DC 20590. Office hours are from 7:45 a.m. to 4:15 p.m., e.t., Monday through Friday, except Federal holidays.

Information on Services for Individuals with Disabilities: For information on facilities or services for individuals with disabilities or to request special assistance at the meeting, contact Deborah Freund at 202-366-4009.

SUPPLEMENTARY INFORMATION:

Background

On January 18, 2007 (72 FR 2340), FMCSA published an NPRM to amend the Federal Motor Carrier Safety Regulations (FMCSRs) to incorporate new performance standards for electronic on-board recorders (EOBRs) installed in commercial motor vehicles (CMVs) manufactured on or after the date 2 years following the effective date of the final rule. On-board hours-of-service recording devices meeting FMCSA's current requirements and voluntarily installed in CMVs manufactured before the implementation date of a final rule may continue to be used for the remainder of the service life of those CMVs.

Under the proposal, motor carriers that have demonstrated a history of serious noncompliance with the hours-of-service (HOS) rules would be subject to mandatory installation of EOBRs meeting the new performance standards. If FMCSA determined, based on HOS records reviewed during each of two compliance reviews conducted within a 2-year period, that a motor carrier had a 10 percent or greater violation rate (“pattern violation”) for any regulation in proposed Appendix C to Part 385, FMCSA would issue the carrier an EOBR remedial directive. The motor carrier would be required to install EOBRs in all of its CMVs regardless of their date of manufacture. The motor carrier would have to use the devices for HOS recordkeeping for a period of 2 years, unless: (1) The carrier already had equipped its vehicles with automatic on-board recording devices (AOBRDs) meeting the Agency's current requirements under 49 CFR 395.15 and (2) could demonstrate to FMCSA that its drivers understood how to use the devices.

The FMCSA also proposed changes to the safety fitness standard that would require these carriers, i.e., those with a pattern of violations, to install, use, and maintain EOBRs in order to meet the new standard. Finally, the Agency would encourage industry wide use of EOBRs by providing the following incentives for motor carriers to voluntarily use EOBRs in their CMVs: (1) Revise the Agency's compliance review procedures to permit examination of a random sample of drivers' records of duty status; (2) provide partial relief from HOS supporting documents requirements, if certain conditions are satisfied; and (3) offer other potential incentives made possible by the inherent safety and driver health benefits of EOBR technology.

Purpose of the Listening Sessions

The FMCSA is committed to providing all interested parties an opportunity to discuss their perspectives on the pertinent issues that could affect any potential rulemaking changes. The Agency expects to receive numerous comments in response to its EOBR NPRM but believes additional information could be obtained through this listening session.

Participants in the listening session will be given the opportunity to submit questions that they would like to hear discussed by others in attendance. FMCSA encourages participants who have prepared statements to submit them to the public docket rather than using time at a listening session to read them aloud. Individuals who wish to submit written comments or statements should submit the information to the public docket identified at the beginning of this notice. Those who desire notification of receipt of comments must include a self-addressed, stamped envelope or postcard. Comments made during the meeting will be transcribed to preserve an accurate record of the discussion.

Meeting Information

Individuals who are unable to attend the meetings may submit written comments to the docket identified at the beginning of this notice.

Issued on: March 7, 2007.
John H. Hill,
Administrator.

[FR Doc. 07-1209 Filed 3-9-07; 4:00 pm]

BILLING CODE 4910-EX-P